SURFACE TRANSPORTATION BOARD

[Docket No. FD 36160]

Great Lakes Terminal Railroad, LLC—Lease and Operation Exemption—Rail Line of Great Lakes Reloading, LLC

AGENCY: Surface Transportation Board.

ACTION: Correction to Notice of Exemption.

On December 20, 2017, Great Lakes Terminal Railroad, LLC (GLTRR), a noncarrier at the time,¹ filed a verified notice of exemption under 49 CFR 1150.31 to sublease from Great Lakes Reloading, LLC, and to operate, approximately 12,500 feet (2.37 miles) of railroad right-of-way and trackage and transloading facilities located at 13535 S. Torrence Avenue, in Chicago, Ill. The notice was served and published in the Federal Register on January 5, 2018, (83 FR 691), and became effective on January 19, 2018.

¹ GLTRR stated that the transaction described in the December 20, 2017, notice was its initial railroad acquisition.

On July 17, 2018, GLTRR filed a request to amend the notice. According to GLTRR, the map provided with its notice incorrectly depicted the property on which the subject trackage is located. Thus, GLTRR requests that the Board substitute the map identified as Amended Appendix 1-B to its petition for the map submitted in the notice. This correction is recognized here. All remaining information from GLTRR's original filing and the notice published on January 5, 2018 remains unchanged.

Board decisions and notices are available on our website at WWW.STB.GOV.

Decided: August 24, 2018.
By the Board, Amy C. Ziehm, Acting Director, Office of Proceedings.
Jeffrey Herzig,
Clearance Clerk.

[FR Doc. 2018-18859 Filed 8-29-18; 8:45 am]

BILLING CODE 4915-01-P